DEPARTMENT OF STATE

[Public Notice 4459]

Bureau of Oceans and International Environmental and Scientific Affairs (OES); Plan of Action To Be Established Through the U.S.-Singapore Memorandum of Intent on Cooperation in Environmental Matters

AGENCY: Department of State.

ACTION: Notice and request for comments.

SUMMARY: The Department of State, through its Bureau of Oceans and International Environmental and Scientific Affairs, is providing notice that, in accordance with the terms of a U.S.-Singapore Memorandum of Intent on Cooperation in Environmental Matters (MOI), the two governments intend to devise a Plan of Action setting out initial cooperative projects to be pursued. In this notice the Department of State is requesting written comments from the public regarding priority areas for bilateral and regional environmental cooperation with the Republic of Singapore. In preparing comments, the public is encouraged to make reference to the MOI (available at: http://www.state.gov/g/oes/rls/or/22193.htm) and to the Final Environment Review of the U.S.-Singapore Free Trade Agreement (available at: http://www.ustr.gov).

DATES: To guarantee receipt in proper time for consideration prior to the meeting, comments are requested as soon as possible but not later than thirty days after the publication of this notice.

ADDRESSES: Comments may be sent by fax to (202) 647-5947 or 202-647-1052, or by e-mail to richardcj@state.gov.

FOR FURTHER INFORMATION CONTACT: Chris Richard, Department of State, Bureau of Oceans and International Environmental and Scientific Affairs, Office of Environmental Policy, telephone 202-647-4548, e-mail richardcj@state.gov.

SUPPLEMENTARY INFORMATION: On May 6, 2003 the governments of the United States and the Republic of Singapore signed a Free Trade Agreement in which both governments recognized the importance of strengthening capacity to protect the environment and to promote sustainable development in concert with the strengthening of trade and investment relations. The Parties agreed to pursue, as appropriate, cooperative environmental activities under a Memorandum of Intent on Cooperation in Environmental Matters (MOI). In the MOI, signed on June 13, 2003, the United States and the Republic of Singapore agreed to pursue cooperative environmental activities, including those pertinent to trade and investment and to strengthening environmental performance. This commitment was made to further the objectives of the Trade Act of 2002, including Section 2101(c)(3), which calls upon the President to “seek to establish consultative mechanisms among parties to trade agreements to strengthen the capacity of the United States trading partners to develop and implement standards for the protection of the environment and human health based on sound science.” (Further information on the negotiation of free trade agreements or on the Trade Act of 2002 can be found at the Internet site of the Office of the U.S. Trade Representative, http://www.ustr.gov.)

In the MOI the governments expressed their intent to meet at least biennially to review the status of environmental cooperation activities. At the first of these meetings, they intend to devise a Plan of Action setting out initial cooperative bilateral, and, where appropriate, regional projects to be pursued. The MOI sets out a number of general areas under which the two governments may cooperate, including promotion of environmental management, exchange of information on environmental best practices, exploring avenues for technological cooperation, and promoting improved natural resource management and endangered species conservation. In devising the Plan of Action the governments of the United States and Singapore will develop a consensus on more specific objectives based upon further consideration of mutual environmental priorities and resources. Public comment is invited on potential cooperative projects and activities, particularly on ways in which non-government organizations or business groups might be involved through public-private partnerships.

Dated: August 22, 2003.
Robert Ford,
Acting Director, Office of Environmental Policy, Bureau of Oceans and International Environmental and Scientific Affairs, Department of State.

[FR Doc. 03-21909 Filed 8-26-03; 8:45 am]

BILLING CODE 4710-09-P